DEPARTMENT OF VETERANS AFFAIRS

[OMB Control No. 2900-0261]

Agency Information Collection Activities Under OMB Review.

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 10, 2001.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0261.”

SUPPLEMENTARY INFORMATION: Title: Application for Refund of Educational Contributions (VEAP, Chapter 32, Title 38, U.S.C), VA Form 24-5281.

OMB Control Number: 2900-0261.

Type of Review: Reinstatement, without change, of a previously approved collection for which approval has expired.

Abstract: VA Form 24-5281 is used by veterans and service persons to request a refund of their contributions to the Post-Vietnam Veterans Education Program. If a participant disenrolls from the program prior to discharge or release from active duty, such contributions will be refunded on the date of the participant's discharge or release from active duty or within 60 days of receipt of notice by the Secretary of Veterans Affairs of the participant's discharge or disenrollment, except that refunds may be made earlier in instances of hardship or other good reasons as prescribed in regulations issued jointly by the Secretary and the Secretary of Defense. If the participant disenrolls from the program after discharge or release from active duty, the contributions shall be refunded within 60 days of receipt of the participant's VA Form 24-5281.

An agency may not conduct or sponsor, and a person is not required to respond to a collection of information unless it displays a currently valid OMB control number. The Federal Register Notice with a 60-day comment period soliciting comments on this collection of information was published on August 23, 2001, at pages 44440-44441.

Affected Public: Individuals or households.

Estimated Annual Burden: 8,333 hours.

Estimated Average Burden Per Respondent: 10 minutes.

Frequency of Response: On occasion.

Estimated Number of Respondents: 50,000.

Send comments and recommendations concerning any aspect of the information collection to VA's OMB Desk Officer, OMB Human Resources and Housing Branch, New Executive Office Building, Room 10235, Washington, DC 20503 (202) 395-7316. Please refer to “OMB Control No. 2900-0261” in any correspondence.

Dated: October 25, 2001.
By direction of the Secretary:
Donald L. Neilson,
Director, Information Management Service.

[FR Doc. 01-28047 Filed 11-7-01; 8:45 am]

BILLING CODE 8320-01-P